DEPARTMENT OF ENERGY

Federal Energy Regulatory Commission

Notice of Scoping Meeting and Soliciting Scoping Comments for an Applicant Prepared Environmental Assessment Using the Alternative Licensing Process

September 26, 2001.

a. Type of Application: Alternative Licensing Process.

b. Project No.: 2100.

c. Applicant: Department of Water Resources (DWR).

d. Name of Project: Oroville Hydroelectric Project (also known as the Feather River Project).

e. Location: On the Feather River, in Butte County, California. The project occupies federal lands within the Plumas and Lassen National Forests.

f. Filed Pursuant to: Federal Power Act, 16 U.S.C. 791(a)-825(r).

g. Applicant Contact: Rick Ramirez, State Water Project Analysis Office at (916) 653-6408.

h. FERC Contact: Jim Fargo, at (202) 219-2848 or james.fargo@ferc.fed.us.

j. Deadline for filing scoping comments: November 29, 2001.

All documents (original and eight copies) should be filed with: David P. Boergers, Secretary, Federal Energy Regulatory Commission, 888 First Street, NE., Washington, DC 20426. Scoping comments may be filed electronically via the Internet in lieu of paper. See 18 CFR 385.2001(a)(1)(iii) and the instructions on the Commission's web site (http://www.ferc.gov) under the “e-Filing” link.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The Oroville facilities consist of the existing Oroville Dam and Reservoir, the Edward Hyatt Powerplant, Thermalito Powerplant, Thermalito Diversion Dam Powerplant, Thermalito Forebay and Afterbay, and associated recreational and fish and wildlife facilities. The project has a total installed capacity of 762,000 kilowatts.

1. Scoping Process

DWR is using the Federal Energy Regulatory Commission's (Commission) alternative licensing process (ALP). Under the ALP, DWR will prepare an Applicant Prepared Environmental Assessment (APEA) and license application for the Oroville Hydroelectric Project.

DWR expects to file with the Commission the APEA and the license application for the Oroville Hydroelectric Project by January 2005.

The purpose of this notice is to inform you of the opportunity to participate in the upcoming scoping meetings identified below, and to ask for your scoping comments.

Scoping Meetings

DWR and the Commission staff will hold two scoping meetings, one in the evening and one in the afternoon, to help us identify the scope of issues to be addressed in the APEA.

All interested individuals, organizations, and agencies are invited to attend one or both of the meetings, and to assist the staff in identifying the environmental issues that should be analyzed in the APEA. The times and locations of these meetings are as follows:

Evening Meeting

Monday, October 29, 2001, 6 p.m. to 9 p.m., State Theater, 1498 Myers Street Oroville, California

Afternoon Meeting

Tuesday, October 30, 2001, 1 p.m. to 4 p.m., Secretary of State Building auditorium, 1500 11th Street Sacramento, California

To help focus discussions, Scoping Document 1 was mailed in September 2001, outlining the subject areas to be addressed in the APEA to the parties on the mailing list. Copies of the SD1 also will be available at the scoping meetings. SD1 may also be viewed on the web at http://www.ferc.gov using the “RIMS” link—select “Docket #” and follow the instructions (call 202-208-2222 for assistance).

Based on all written comments received, a Scoping Document 2 (SD2) may be issued. SD2 will include a revised list of issues, based on the scoping sessions.

Objectives

At the scoping meetings, the DWR and staff will: (1) Summarize the environmental issues tentatively identified for analysis in the APEA; (2) solicit from the meeting participants all available information, especially quantifiable data, on the resources at issue; (3) encourage statements from experts and the public on issues that should be analyzed in the APEA, including viewpoints in opposition to, or in support of, the collaborative's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist DWR in defining and clarifying the issues to be addressed in the APEA.

Linwood A. Watson, Jr.,
Acting Secretary.

[FR Doc. 01-24548 Filed 10-1-01; 8:45 am]

BILLING CODE 6717-01-P